ENVIRONMENTAL PROTECTION AGENCY

[EPA-HQ-OPP-2006-0237; FRL-8062-9]

Management Support Technology Inc. (MTSI); Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to MTSI in accordance with 40 CFR 2.307(h)(3) and 2.308(i)(2). MTSI has been awarded multiple contracts to perform work for OPP, and access to this information will enable MTSI to fulfill the obligations of the contract.

DATES: MTSI will be given access to this information on or before May 30, 2006.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address:croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification number (ID) EPA-HQ-OPP-2006-0237; FRL-8062-9. Publicly available docket materials are available either electronically at http://www.regulations.gov or in hard copy at the OPP Regulatory Public Docket in Rm. S-4400, One Potomac Yard (South Building), 2777 S. Crystal Drive, Arlington, Va. This Docket Facility is open from 8:30 a.m. to 4 p.m., Monday through Friday, excluding legal holidays. The Docket telephone number is (703) 305-5805.

2. Electronic access. You may access this Federal Register document electronically through the EPA Internet under the “Federal Register” listings at http://www.epa.gov/fedrgstr/.

II. Contractor Requirements

Under the contract number EPA-W-06-038, the contractor will perform the following:

1. Assist each OPP Division with document handling and preparation for “scan ready” condition.

2. Operate OPP-supplied scanning equipment to produce 300 dpi resolution PDF documents.

3. Copy documents to designated areas on OPP Storage Area Network.

4. Create and maintain project logs for progress tracking.

5. Establish a document quality control program.

6. Perform quality control for all scanned pages.

This contract involves no subcontractors.

The OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with MTSI, prohibits use of the information for any purpose not specified in the contract; prohibits disclosure of the information to a third party without prior written approval from the Agency; and requires that each official and employee of the contractor sign an agreement to protect the information from unauthorized release and to handle it in accordance with the FIFRA Information Security Manual. In addition, MTSI is required to submit for EPA approval a security plan under which any CBI will be secured and protected against unauthorized release or compromise. No information will be provided to MTSI until the requirements in this document have been fully satisfied. Records of information provided to MTSI will be maintained by the EPA Project Officer for this contract. All information supplied to MTSI by EPA for use in connection with this contract will be returned to EPA when MTSI has completed its work.

List of Subjects

Environmental protection, Business and industry, Government contracts, Government property, Security measures.

Dated: May 11, 2006.
Robert Forrest,
Acting Director, Office of Pesticide Programs.

[FR Doc. E6-7831 Filed 5-23-06; 8:45 am]

BILLING CODE 6560-50-S